DEPARTMENT OF THE INTERIOR

National Park Service

[NPS-WASO-NAGPRA-NPS0037216; PPWOCRADN0-PCU00RP14.R50000]

Notice of Inventory Completion Amendment: University of Minnesota Twin Cities, Minneapolis, MN; Minnesota Indian Affairs Council, St. Paul/Bemidji, MN; Science Museum of Minnesota, Saint Paul, MN; University of Colorado Museum (Boulder), Boulder, CO; Milwaukee Public Museum, Milwaukee, WI; Denver Art Museum, Denver, CO; Yale Peabody Museum, New Haven, CT; and Cleveland Museum of Art, Cleveland, OH

AGENCY: National Park Service, Interior.

ACTION: Notice; amendment.

SUMMARY: In accordance with the Native American Graves Protection and Repatriation Act (NAGPRA), the University of Minnesota Twin Cities (UMN); Minnesota Indian Affairs Council; Science Museum of Minnesota; University of Colorado Museum (Boulder); Milwaukee Public Museum; Denver Art Museum; Yale Peabody Museum; and Cleveland Museum of Art, hereafter the Collaborating Museums, have amended a Notice of Inventory Completion published in the Federal Register on February 24, 2023. This notice amends the number of associated funerary objects in a collection removed from Grant and Catron Counties, NM.

DATES: Repatriation of the human remains and associated funerary objects in this notice may occur on or after February 12, 2024.

ADDRESSES: Alejandra Peña Gutiérrez, Weisman Art Museum, University of Minnesota, 333 East River Road, Minneapolis, MN 55455, telephone (612) 624-5934, email apenagut@umn.edu.

SUPPLEMENTARY INFORMATION: This notice is published as part of the National Park Service's administrative responsibilities under NAGPRA. The determinations in this notice are the sole responsibility of the Collaborating Museums. The National Park Service is not responsible for the determinations in this notice. Additional information on the amendments and determinations in this notice, including the results of consultation, can be found in the inventory or related records held by the Collaborating Museums.

Amendment

This notice amends the determinations published in a Notice of Inventory Completion in the Federal Register (88 FR 11932-11934, February 24, 2023). Repatriation of the items in the original Notice of Inventory Completion has not occurred. This amendment is being made because physical inventory has identified additional items which were previously unreported, and because additional known items were subsequently identified to be associated funerary objects.

Associated Funerary Objects
Site | Original number | Amended number | Amended description
Cameron Creek and Warm Springs sites in Grant County, NM | 571 | 575 | One carved jade pendant, 92 stone tools or other items, two carved shell or stone items, 43 shell items, one shell pendant, 16 bead lots, seven turquoise item lots, 45 bone tools or other items, 191 ceramic vessels, one non-vessel ceramic item, 167 ceramic sherds or sherd lots, four organic items including charcoal, and one adobe lot. In addition, the Collaborating Museums continue to look for two ceramic vessels and two turquoise pendants which are documented but not physically located.
Galaz Ruin site in Grant County, NM | 3,236 | 3,256 | 1,009 ceramic vessels, 23 ceramic non-vessel items, 798 ceramic sherds or sherd lots, three copper bell fragments, 51 bead lots, 738 stone tools or other items, 16 stone vessels, four lots of faunal material, 205 shell items, 51 turquoise items or lots, 260 bone tools or other items, 17 horn items, 13 mineral samples or objects, 20 unidentified organic items, and two unidentified residue samples. In addition, the Collaborating Museums continue to look for the missing 46 associated funerary objects, which are 34 pottery vessels, four bead lots, four shell adornments, one stone pendant, one stone axe, one stone palette, and one projectile point.

Determinations (as Amended)

Pursuant to NAGPRA and its implementing regulations, and after consultation with the appropriate Indian Tribes and Native Hawaiian organizations, the Collaborating Museums have determined that:

• The human remains described in this amended notice represent the physical remains of 198 individuals of Native American ancestry.

• The 4,234 objects described in this amended notice are reasonably believed to have been placed with or near individual human remains at the time of death or later as part of the death rite or ceremony.

• There is a relationship of shared group identity that can be reasonably traced between the human remains and associated funerary objects described in this notice and the Hopi Tribe of Arizona; Mescalero Apache Tribe of the Mescalero Reservation, New Mexico; Okhay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Santa Ana, New Mexico; Pueblo of Santa Clara, New Mexico; Pueblo of Taos, New Mexico; Pueblo of Tesuque, New Mexico; Pueblo of Zia, New Mexico; Santo Domingo Pueblo; Ysleta del Sur Pueblo; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 12, 2024. If competing requests for repatriation are received, the Collaborating Museums must determine the most appropriate requestor prior to repatriation. Requests for joint repatriation of the human remains and associated funerary objects are considered a single request and not competing requests. The Collaborating Museums is responsible for sending a copy of this notice to the Indian Tribes and Native Hawaiian organizations identified in this notice.

Authority: Native American Graves Protection and Repatriation Act, 25 U.S.C. 3003, and the implementing regulations, 43 CFR 10.9, 10.10, 10.13, and 10.14.

Dated: January 4, 2024.
Melanie O'Brien,
Manager, National NAGPRA Program.

[FR Doc. 2024-00431 Filed 1-10-24; 8:45 am]

BILLING CODE 4312-52-P